DEPARTMENT OF COMMERCE

Bureau of Industry and Security

Materials Technical Advisory committee; Notice of Open Meeting

The Materials Technical Advisory Committee (MTAC) will meet on August 4, 2005, 10:30 a.m., in the Herbert C. Hoover Building, Room 3884, 14th Street between Constitution & Pennsylvania Avenues, NW., Washington, DC. The Committee advises the Office of the Assistant Secretary for Export Administration with respect to technical questions that affect the level of export controls applicable to advanced materials and related technology.

Agenda

1. Opening remarks and introductions.

2. Ambassador Don Mahley: Briefing on status of the Biological Weapons Convention (BWC) and codes of conduct discussions recently held in Geneva.

3. Report on status of addition of select agents list to the Commerce Commodity Control List (CCL).

4. Selection of date for next meeting.

The meeting will be open to the public and a limited number of seats will be available. Reservations are not accepted. To the extent that time permits, members of the public may present oral statements to the Committee. Written statements may be submitted at any time before or after the meeting. However, to facilitate distribution of public presentation materials to Committee members, the Committee suggests that presenters forward the public presentation materials to Yvette Springer at Yspringer@bis.doc.gov.

For more information contact Yvette Springer on (202) 482-4814.

Dated: July 14, 2005.
Yvette Springer,
Committee Liaison Officer.

[FR Doc. 05-14413 Filed 7-20-05; 8:45 am]

BILLING CODE 3510-JT-M